AMTRAK REFORM COUNCIL

Notice of Meeting

AGENCY: Amtrak Reform Council.

ACTION: Notice of special public business meeting in Washington, DC.

SUMMARY: As provided in Section 203 of the Amtrak Reform and Accountability Act of 1997 (Reform Act), the Amtrak Reform Council (Council) gives notice of a special public meeting of the Council. On Thursday, February 7, 2002, the Council will hold a Business Meeting from 9:30 a.m.-10:30 a.m. Eastern Standard Time (EST) to discuss the final recommendation of the Council for a restructured and rationalized national intercity rail passenger system. Following the Business Meeting, the Council will hold a press conference from 10:30 a.m. to 12:30 p.m.

During its most recent Council meeting, held on January 11, 2002, the Council discussed four options for restructuring Amtrak. A majority of the Council (eight in favor and one opposed) voted to approve the basic elements for a restructuring plan. Under the Council's proposal, the National Railroad Passenger Corporation (NRPC), which has been commonly referred to as Amtrak, would be reconfigured as a small federal program management agency that would control the passenger rail franchise rights, define funding requirements for train operations and infrastructure needs, secure funding from the Congress, and oversee the performance of the system. The reorganization of the NRPC would be completed, in principal part, by putting its train operations into one subsidiary and its real property infrastructure into another. Once the reorganization is in place, the NRPC could introduce competition into the national rail passenger system by permitting other train operating companies, along with Amtrak, to compete for the right to operate a particular route or routes under contract. The NRPC could also exercise its franchise authority to operate passenger trains at the request of a state or an interstate compact.

On November 9, 2001, the Amtrak Reform Council approved a resolution finding that Amtrak would not achieve operational self-sufficiency by December 2, 2002, as required by the Amtrak Reform and Accountability Act of 1997. The Council's finding started a 90-day clock in which the Council must submit an action plan for to Congress.

DATES: The Business Meeting will be held on Thursday, February 7, 2002, from 9:30 a.m.-10:30 a.m. EST, followed by a press conference from 10:30 a.m. to 12:30 p.m. The event is open to the public.

ADDRESSES: The Business Meeting will take place in the Ballroom in the Phoenix Park Hotel at 580 N. Capitol Street, NW, Washington, DC 20001. The nearest Metro stop is Union Station on the Red Line. Persons in need of special arrangements should contact the person listed below.

FOR FURTHER INFORMATION CONTACT: Deirdre O'Sullivan, Amtrak Reform Council, Room 7105, JM-ARC, 400 Seventh Street, SW, Washington, DC 20590, or by telephone at (202) 366-0591; FAX: 202-493-2061. For information regarding ARC's Finding Resolution, the ARC's Proposed Four Options for Restructuring Amtrak, the ARC's two Annual Reports, information about ARC Council Members and staff, and more, you can also visit the Council's Web site at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The Reform Act prescribes that the Council is to consist of eleven members, including the Secretary of Transportation and ten others nominated by the President and the leadership of the Congress. Members serve a five-year term.

Issued in Washington, DC—January 15, 2002.
Thomas A. Till,
Executive Director.

[FR Doc. 02-1695 Filed 1-23-02; 8:45 am]

BILLING CODE 4910-06-P